DEPARTMENT OF LABOR

Employment and Training Administration

[TA-W-72,588]

Pavco Industries, Inc., Pascagoula, MI; Notice of Termination of Investigation

Pursuant to Section 221 of the Trade Act of 1974, as amended, an investigation was initiated in response to a petition filed on October 15, 2009, by a company official on behalf of workers of Pavco Industries, Inc., Pascagoula, Mississippi.

The petitioner has requested that the petition be withdrawn. Accordingly, the investigation has been terminated.

Signed at Washington, DC this 9th day of March, 2010.
Del Min Amy Chen,
Certifying Officer, Division of Trade Adjustment Assistance.

[FR Doc. 2010-6927 Filed 3-29-10; 8:45 am]

BILLING CODE 4510-FN-P